DEPARTMENT OF ENERGY

Federal Energy Regulatory Commission

Combined Notice of Filings No. 1

April 19, 2010.

Take notice that the Commission has received the following Natural Gas Pipeline Rate and Refund Report filings:

Docket Numbers: RP10-606-000.

Applicants: Gas Transmission Northwest Corporation.

Description: Gas Transmission Northwest Corporation submits Twenty-Third Revised Sheet 24 et al. to FERC Gas Tariff, Third Revised Volume 1-A to be effective 4/15/10.

Filed Date: 04/15/2010.

Accession Number: 20100415-0208.

Comment Date: 5 p.m. Eastern Time on Tuesday, April 27, 2010.

Docket Numbers: RP10-607-000.

Applicants: Guardian Pipeline, LLC

Description: Guardian Pipeline, LLC submits First Revised Sheet 5A et al. to FERC Gas Tariff, Original Volume 1, to be effective 6/1/10.

Filed Date: 04/15/2010.

Accession Number: 20100415-0207.

Comment Date: 5 p.m. Eastern Time on Tuesday, April 27, 2010.

Docket Numbers: RP10-608-000.

Applicants: Transcontinental Gas Pipe Line Company.

Description: Transcontinental Gas Pipe Line Company submits transportation service agreements for Rate Schedule FT.

Filed Date: 04/15/2010.

Accession Number: 20100415-0205.

Comment Date: 5 p.m. Eastern Time on Tuesday, April 27, 2010.

Docket Numbers: RP10-609-000.

Applicants: Algonquin Gas Transmission, LLC.

Description: Algonquin Gas Transmission, LLC submits Second Revised Sheet 89 et al. to FERC Gas Tariff, Fifth Revised Volume 1, to be effective 6/1/10.

Filed Date: 04/15/2010.

Accession Number: 20100415-0206.

Comment Date: 5 p.m. Eastern Time on Tuesday, April 27, 2010.

Docket Numbers: RP10-610-000.

Applicants: Gulf South Pipeline Company, LP.

Description: Gulf South Pipeline Company, LP submits the capacity release agreement containing negotiated rate provisions with Texla Energy Management, Inc.

Filed Date: 04/15/2010.

Accession Number: 20100416-0202.

Comment Date: 5 p.m. Eastern Time on Tuesday, April 27, 2010.

Docket Numbers: RP10-611-000.

Applicants: Panhandle Eastern Pipe Line Company, LP.

Description: Panhandle Eastern Pipe Line Company, LP submits Third Revised Sheet 1A et al. to FERC Gas Tariff, Third Revised Volume 1, to be effective 5/16/10.

Filed Date: 04/15/2010.

Accession Number: 20100416-0203.

Comment Date: 5 p.m. Eastern Time on Tuesday, April 27, 2010.

Docket Numbers: RP10-612-000.

Applicants: Gulf South Pipeline Company, LP.

Description: Gulf South Pipeline Company, LP submits capacity release agreement containing negotiated rate provisions by Texla Energy Management, Inc.

Filed Date: 04/16/2010.

Accession Number: 20100416-0206.

Comment Date: 5 p.m. Eastern Time on Wednesday, April 28, 2010.

Docket Numbers: RP10-613-000.

Applicants: Transcontinental Gas Pipe Line Company, LLC.

Description: Transcontinental Gas Pipe Line Company, LLC submits firm transportation service agreements under Rate Schedule FT.

Filed Date: 04/16/2010.

Accession Number: 20100416-0207.

Comment Date: 5 p.m. Eastern Time on Wednesday, April 28, 2010.

Docket Numbers: RP10-614-000.

Applicants: Trailblazer Pipeline Company LLC.

Description: Trailblazer Pipeline Company, LLC submits Penalty Revenue Crediting Report for the quarter ended 3/31/10.

Filed Date: 04/16/2010.

Accession Number: 20100416-0208.

Comment Date: 5 p.m. Eastern Time on Wednesday, April 28, 2010.

Docket Numbers: RP10-615-000.

Applicants: Texas Eastern Transmission, LP.

Description: Texas Eastern Transmission, LP submits Second Revised Sheet 121K to its FERC Gas Tariff, Seventh Revised Volume 1 to be effective 4/17/10.

Filed Date: 04/16/2010.

Accession Number: 20100416-0209.

Comment Date: 5 p.m. Eastern Time on Wednesday, April 28, 2010.

Docket Numbers: RP10-616-000.

Applicants: Equitrans, LP

Description: Equitrans, LP submits First Revised Sheet 0 et al. to its FERC Gas Tariff, Original Volume 1 to be effective 5/16/10.

Filed Date: 04/16/2010.

Accession Number: 20100416-0210.

Comment Date: 5 p.m. Eastern Time on Wednesday, April 28, 2010.

Docket Numbers: RP10-617-000.

Applicants: ANR Storage Company.

Description: ANR Storage Co. submits a negotiated rate agreement amendment.

Filed Date: 04/16/2010.

Accession Number: 20100416-0220.

Comment Date: 5 p.m. Eastern Time on Wednesday, April 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-9791 Filed 4-27-10; 8:45 am]

BILLING CODE 6717-01-P